DEPARTMENT OF HEALTH AND HUMAN SERVICES

Centers for Disease Control and Prevention

[30 DAY-42-01]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Assessing the Effectiveness of Community-Based Organizations (CBOs) for the Delivery of HIV Prevention Intervention: Model Development and Training Component—New—Centers for Disease Control and Prevention (CDC), National Center for HIV, STD, and TB Prevention (NCHSTP) proposes to develop and test a model of HIV prevention community-based organization (CBO) functioning using a one time data collection questionnaire. Each CBO will be asked to answer questions related to the existence and importance of factors affecting their HIV prevention interventions. This data collection is necessary for CDC to better (a) assess CBO applications systematically for funding, (b) develop materials CBOs can use to assess their own programmatic needs and create a social map of their target populations, including a CBO profile of organizational, environmental, target population, intervention program and accomplishments characteristics, (c) better develop CBO technical assistance (TA) materials, and (d) provide TA to CBOs that have already been selected by CDC for funding. This study will also yield more hypotheses for statistical testing, instruments with reliability and validity data for use in other studies, and a model that can be used and revised to meet the context of a particular CBO. The questionnaire will be administered to 766 CBOs that have applied for CDC funding under program announcements 00023, 00100, 99047, 99091, 99092, 99096. The total response burden for this data collection is 1532 hours.

Respondents | Number of respondents | Number of responses per respondent | Avg. burden per response (in hrs.)
Model Survey | 766 | 1 | 2

Dated: July 12, 2001.
Nancy Cheal,
Acting Associate Director for Policy, Planning, and Evaluation Centers for Disease Control and Prevention (CDC).

[FR Doc. 01-18353 Filed 7-23-01; 8:45 am]

BILLING CODE 4163-18-P